DEPARTMENT OF ENERGY

Federal Energy Regulatory Commission

[Docket Nos. RP01-104-000]

Venice Gathering System, L.L.C.; Notice of Compliance Filing

December 7, 2000.

Take notice that on November 7, 2000, Venice Gathering System, L.L.C., (Venice) filed a letter with the Commission explaining that its tariff complies with the imbalance netting and trading provisions of Order Nos. 587-G and 587-L. According to Venice, its tariff already contains imbalance netting and trading provisions, as required by those orders.

Any person desiring to protest said filing should file a protest with the Federal Energy Regulatory Commission, 888 First Street, NE., Washington, DC 20426, in accordance with section 385.211 of the Commission's Rules and Regulations. All such protests must be filed on or before December 14, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31841 Filed 12-13-00; 8:45 am]

BILLING CODE 6717-01-M